DEPARTMENT OF ENERGY

Federal Energy Regulatory Commission

[Docket Number CP23-501-000]

Port Arthur LNG, LLC, PALNG Common Facilities Company, LLC; Notice of Schedule for the Preparation of an Environmental Assessment for the Port Arthur Liquified Natural Gas Amendment

On June 21, 2023, Port Arthur LNG, LLC and PALNG Common Facilities Company, LLC (collectively, PALNG) filed an application in Docket Number (No.) CP23-501-000 for a limited amendment to the existing authorization issued by the Federal Energy Regulatory Commission (Commission or FERC) on April 18, 2019, in Docket No. CP17-20-000 to site, construct, and operate facilities for the liquefaction of domestically produced natural gas at the proposed liquified natural gas (LNG) terminal in Port Arthur, Texas. If authorized, the Port Arthur Liquified Natural Gas Amendment (Amendment) would allow for an increase in workforce, traffic volume, and work week/hour limits associated with the construction of its terminal from that analyzed in the final Environmental Impact Statement for the original Port Arthur Liquefaction Project (Docket No. CP17-20-000).

On June 28, 2023, FERC issued its Notice of Application for the Amendment. Among other things, that notice alerted agencies issuing Federal authorizations of the requirement to complete all necessary reviews and to reach a final decision on a request for a federal authorization within 90 days of the date of issuance of the Commission staff's environmental document for the Amendment.

This notice identifies Commission staff's intention to prepare an environmental assessment (EA) for the Amendment and the planned schedule for the completion of the environmental review.¹

¹ 40 CFR 1501.10 (2020)

Schedule for Environmental Review

Issuance of EA December 19, 2023

90-day Federal Authorization Decision Deadline ² March 18, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, an additional notice will be issued so that the relevant agencies are kept informed of the Amendment's progress.

Project Description

PALNG's proposed Amendment would: (1) extend the work hours from 7 a.m. to 10 p.m. to 24-hours-per-day until completion of the facilities described in CP17-20-000; (2) increase the workforce from 3,000 to 6,000 workers during peak construction; and (3) increase the onsite terminal parking from 500 to 1,000 parking spaces.

PALNG asserts that this Amendment would maintain a development schedule that maximizes construction efficiency while minimizing the duration of environmental and community disturbance in the vicinity of the approved terminal and meet the approved terminal construction schedule.

Background

On July 18, 2023, the Commission issued a Notice of Scoping Period Requesting Comments on Environmental Issues for The Port Arthur Liquified Natural Gas Amendment (Notice of Scoping). The Notice of Scoping was sent to affected landowners (as defined by the Commission's regulations); Federal, State, and local government agencies; elected officials; environmental and public interest groups; Native American Tribes; other interested parties; and local libraries and newspapers. In response to the Notice of Scoping, the Commission received comments from the U.S. Environmental Protection Agency, the Greater Port Arthur Chamber of Commerce, residents of Port Arthur and Sabine Pass, Sabine Pass Independent School District, and Sabine Passport Authority. The primary issues raised by the commenters are wanting to see an enhanced level of detail and analysis for the park and ride locations, environmental justice impacts, traffic impacts, noise, climate change, air quality, and public participation. In addition, some of these comments provided general opposition and support for the Amendment. All substantive comments received in response to the Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members, and others access publicly available information and navigate the Commission processes. For public inquiries and assistance with making filings such as interventions, comments, or requests for rehearing, the public is encouraged to contact OPP at (202) 502-6595 or OPP@ferc.gov.

Additional information about the Amendment is available from the Commission's Office of External Affairs at (866) 208-FERC or on the FERC website (www.ferc.gov). Using the “eLibrary” link, select “General Search” from the eLibrary menu, enter the selected date range and “Docket Number” (i.e., CP23-501), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 30, 2023.
Kimberly D. Bose,
Secretary.

[FR Doc. 2023-19221 Filed 9-6-23; 8:45 am]

BILLING CODE 6717-01-P